ENVIRONMENTAL PROTECTION AGENCY

[EPA-HQ-SFUND-2005-0007; FRL-9937-24-OEI]

Information Collection Request Submitted to OMB for Review and Approval; Comment Request; EPA Worker Protection Standards for Hazardous Waste Operations and Emergency Response (Renewal)

AGENCY: Environmental Protection Agency (EPA).

ACTION: Notice.

SUMMARY: The Environmental Protection Agency has submitted an information collection request (ICR), “EPA Worker Protection Standards for Hazardous Waste Operations and Emergency Response (Renewal)” (EPA ICR No. 1426.11, OMB Control No. 2050-0105) to the Office of Management and Budget (OMB) for review and approval in accordance with the Paperwork Reduction Act (44 U.S.C. 3501 et seq.). This is a proposed extension of the ICR, which is currently approved through December 31, 2015. Public comments were previously requested via the Federal Register 80 FR 60144 on October 5, 2015 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before January 15, 2016.

ADDRESSES: Submit your comments, referencing Docket ID Number EPA-HQ-SFUND-2005-0007, to (1) EPA online using www.regulations.gov (our preferred method), by email to superfund.docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Sella M. Burchette, U.S. Environmental Response Team, MS 101, Building 205, Edison, NJ 08837, telephone number: 732-321-6726; fax number: 732-321-6724; email address: burchette.sella@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: Section 126(f) of the Superfund Amendments and Reauthorization Act of 1986 (SARA) requires EPA to set worker protection standards for State and local employees engaged in hazardous waste operations and emergency response in the 27 States that do not have Occupational Safety and Health Administration approved State plans. The EPA coverage, as cited in 40 CFR 311, required to be identical to the OSHA standards, extends to three categories of employees: Those engaged in clean-ups at uncontrolled hazardous waste sites, including corrective actions at Treatment, Storage and Disposal (TSD) facilities regulated under the Resource Conservation and Recovery Act (RCRA); employees working on routine hazardous waste operations at RCRA TSD facilities, and employees involved in emergency response operations without regard to location. This ICR renews existing mandatory record keeping collection of ongoing activities including monitoring of any potential employee exposure at uncontrolled hazardous waste sites, maintaining records of employee training, refresher training, medical exams and reviewing emergency response plans.

Form Numbers: None.

Respondents/affected entities: State and local employees engaged in hazardous waste operations and emergency response in the 27 States that do not have Occupational Health & Safety Administration (OSHA) approved State plans.

Respondent's Obligation to respond: Mandatory. Section (e) and by statue in Section (f)[8] of OSHA's 29 CFR 1910.120.

Estimated number of respondents: 23,900.

Frequency of response: Once, Annual, On occasion.

Total estimated burden: 255,477 hours (per year). Burden is defined at 5 CFR 1320.03(b)

Total estimated cost: $4,668,688 (per year), includes $0 annualized capital or operation & maintenance costs.

Changes in Estimates: There is no change of the hours in the total estimated respondent burden compared with the ICR currently approved by OMB. This is due to the program maturing and stabilizing. The cost increased by $1,143,100, which is due to increased labor rates.

Courtney Kerwin,
Acting Director, Collection Strategies Division.

[FR Doc. 2015-31539 Filed 12-15-15; 8:45 am]

BILLING CODE 6560-50-P